DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Autauga (FEMA Docket No: B-1046) | City of Prattville (07-04-6309P) | February 28, 2009; March 7, 2009; Prattville Progress | The Honorable Jim Byard, Jr., Mayor, City of Prattville, 101 West Main Street, Prattville, AL 36067 | February 20, 2009 | 010002
Madison (FEMA Docket No: B-1042) | Unincorporated areas of Madison County (09-04-0502P) | February 6, 2009; February 13, 2009; Madison County Record | The Honorable Mike Gillespie, Chairman, Madison County Commission, 6994 Courthouse, Room 700, 100 Northside Square, Huntsville, AL 35801 | June 15, 2009 | 010151
Arizona:
Coconino (FEMA Docket No: B-1046) | Unincorporated areas of Coconino County (08-09-1418P) | February 20, 2009; February 27, 2009; Arizona Daily Sun | The Honorable Deb Hill, Chairman, Coconino County Board of Supervisors, 219 East Cherry Avenue, Flagstaff, AZ 86001 | June 29, 2009 | 040019
Maricopa (FEMA Docket No: B-1046) | City of Avondale (08-09-0655P) | March 5, 2009; March 12, 2009; Arizona Business Gazette | The Honorable Marie Lopez, Mayor, City of Avondale, 11465 West Civic Center Drive, Suite 280, Avondale, AZ 85323 | July 10, 2009 | 040038
Maricopa (FEMA Docket No: B-1046) | Unincorporated areas of Maricopa County (08-09-0655P) | March 5, 2009; March 12, 2009; Arizona Business Gazette | The Honorable Andrew Kunasek, Chairman, Maricopa County Board of Supervisors, 301 West Jefferson Street, 10th Floor, Phoenix, AZ 85003 | July 10, 2009 | 040037
Maricopa (FEMA Docket No: B-1046) | City of Tolleson (08-09-0655P) | March 5, 2009; March 12, 2009; Arizona Business Gazette | The Honorable Adolfo F. Gamez, Mayor, City of Tolleson, 9555 West Van Buren Street, Tolleson, AZ 85353 | July 10, 2009 | 040055
Maricopa (FEMA Docket No: B-1052) | Town of Cave Creek (09-09-0129P) | February 11, 2009; February 18, 2009; Sonoran News | The Honorable Vincent Francia, Mayor, Town of Cave Creek, 37622 North Cave Creek Road, Cave Creek, AZ 85331 | June 18, 2009 | 040129
California:
San Bernardino (FEMA Docket No: B-1044) | Town of Apple Valley (08-09-1552P) | February 13, 2009; February 20, 2009; Apple Valley News | The Honorable Mark Shoup, Mayor, City of Apple Valley, 14955 Dale Evans Parkway, Apple Valley, CA 92307 | June 19, 2009 | 060752
San Bernardino (FEMA Docket No: B-1044) | City of Hesperia (08-09-1552P) | February 12, 2009; February 19, 2009; Hesperia Resorter | The Honorable Tad Honeycutt, Mayor, City of Hesperia, 9700 7th Avenue, Hesperia, CA 92345 | June 19, 2009 | 060733
San Bernardino (FEMA Docket No: B-1044) | Unincorporated areas of San Bernardino County (08-09-1552P) | February 13, 2009; February 20, 2009; San Bernardino Bulletin | The Honorable Paul Biane, Chairman, San Bernardino County Board of Supervisors, 385 North Arrowhead Avenue, 5th Floor, San Bernardino, CA 92415 | June 19, 2009 | 060270
San Diego (FEMA Docket No: B-1046) | City of National City (08-09-1802P) | March 3, 2009; March 10, 2009; San Diego Union-Tribune | The Honorable Ron Morrison, Mayor, National City, 1243 National City Boulevard, National City, CA 91950 | July 8, 2009 | 060293
Shasta (FEMA Docket No: B-1052) | City of Redding (08-09-0964P) | March 9, 2009; March 16, 2009; Record Searchlight | The Honorable Rick Bosetti, Mayor, City of Redding, P.O. Box 496071, Redding, CA 96001 | March 30, 2009 | 060360
Colorado:
Jefferson (FEMA Docket No: B-1046) | City of Golden (09-08-0184P) | March 5, 2009; March 12, 2009; Golden Transcript | The Honorable Jacob Smith, Mayor, City of Golden, 911 10th Street, Golden, CO 80401 | February 27, 2009 | 080090
Teller (FEMA Docket No: B-1048) | Unincorporated areas of Teller County (08-08-0921P) | March 11, 2009; March 18, 2009; Pikes Peak Courier View | The Honorable James Ignatius, Chairman, Teller County Board of Commissioners, 112 North A Street, Cripple Creek, CO 80813 | July 16, 2009 | 080173
Teller (FEMA Docket No: B-1048) | Town of Woodland Park (08-08-0921P) | March 11, 2009; March 18, 2009; Pikes Peak Courier View | The Honorable Steve Randolph, Mayor, City of Woodland Park, 220 West South Avenue, Woodland Park, CO 80866 | July 16, 2009 | 080175
Weld (FEMA Docket No: B-1052) | Town of Severance (08-08-0702X) | February 20, 2009; February 27, 2009; Greeley Tribune | The Honorable Pierre De Milt, Mayor, Town of Severance, 231 West 4th Avenue, Severance, CO 80546 | June 29, 2009 | 080317
Weld (FEMA Docket No: B-1052) | Unincorporated areas of Weld County (08-08-0702X) | February 20, 2009; February 27, 2009; Greeley Tribune | The Honorable David E. Long, Chairman, Weld County Board of Commissioners, P.O. Box 758, Greeley, CO 80632 | June 29, 2009 | 080266
Florida: Seminole (FEMA Docket No: B-1046) | Unincorporated areas of Seminole County (08-04-6702P) | March 6, 2009; March 13, 2009; Orlando Sentinel | The Honorable Bob Dallari, Chairman, Seminole County Board of Commissioners, 1101 East 1st Street, Sanford, FL 32771 | February 25, 2009 | 120289
Georgia: Columbia (FEMA Docket No: B-1046) | Unincorporated areas of Columbia County (07-04-4253P) | March 1, 2009; March 8, 2009; Columbia County News Times | The Honorable Ron C. Cross, Chairman, Columbia County Board of Commissioners, P.O. Box 498, Evans, GA 30809 | July 6, 2009 | 130059
Idaho:
Ada (FEMA Docket No: B-1042) | Unincorporated areas of Ada County (08-10-0658P) | February 6, 2009; February 13, 2009; Idaho Statesman | The Honorable Fred Tilman, Chairman, Ada County Board of Commissioners, 200 West Front Street, Boise, ID 83702 | June 15, 2009 | 160001
Ada (FEMA Docket No: B-1042) | City of Meridian (08-10-0658P) | February 6, 2009; February 13, 2009; Idaho Statesman | The Honorable Tammy de Weerd, Mayor, City of Meridian, Meridian City Hall, Suite 300, 33 East Broadway Avenue, Meridian, ID 83702 | June 15, 2009 | 160180
Blaine (FEMA Docket No: B-1046) | Unincorporated areas of Blaine County (09-10-0141P) | March 11, 2009; March 18, 2009; Idaho Mountain Express | The Honorable Tom Bowman, Chairman, Blaine County Board of Commissioners, 206 First Avenue South, Suite 300, Hailey, ID 83333 | February 27, 2009 | 165167
Blaine (FEMA Docket No: B-1046) | City of Hailey (09-10-0141P) | March 11, 2009; March 18, 2009; Idaho Mountain Express | The Honorable Rick Davis, Mayor, City of Hailey, 115 Main Street South, Suite H, Hailey, ID 83333 | February 27, 2009 | 160022
Indiana: Hamilton (FEMA Docket No: B-1044) | City of Carmel (08-05-5476P) | February 26, 2009; March 5, 2009; Noblesville Ledger | The Honorable James Brainard, Mayor, City of Carmel, One Civic Square, Carmel, IN 46032 | July 6, 2009 | 180081
Iowa: Dubuque (FEMA Docket No: B-1042) | Unincorporated areas of Dubuque County (08-07-0804P) | February 6, 2009; February 13, 2009; Telegraph Herald | The Honorable Donna Smith, Supervisor, Dubuque County Board of Supervisors, 720 Central Avenue, Dubuque, IA 52001 | June 15, 2009 | 190534
Louisiana:
East Baton Rouge (FEMA Docket No: B-1046) | Unincorporated areas of East Baton Rouge Parish (08-06-2569P) | February 11, 2009; February 18, 2009; The Advocate | The Honorable Melvin Holden, Mayor, East Baton Rouge Parish, 222 Saint Louis Street, 3rd Floor, Baton Rouge, LA 70802 | June 18, 2009 | 220058
East Baton Rouge (FEMA Docket No: B-1046) | City of Zachary (08-06-2569P) | February 12, 2009; February 19, 2009; Zachary Plainsman | The Honorable Henry J. Martinez, Mayor, City of Zachary, 4700 Main Street, Zachary, LA 70791 | June 18, 2009 | 220061
Maine: Cumberland (FEMA Docket No: B-1042) | Town of Falmouth (09-01-0124P) | February 6, 2009; February 13, 2009; Portland Press Herald | The Honorable William Armitage, Chair, Falmouth Town Council, 271 Falmouth Road, Falmouth, ME 04105 | June 15, 2009 | 230045
Missouri: Clay, Platte, and Jackson (FEMA Docket No: B-1042) | City of Kansas City (08-07-0725P) | February 12, 2009; February 19, 2009; The Daily Record | The Honorable Mark W. Funkhouser, Mayor, City of Kansas City, City Hall, 29th Floor, 414 East 12th Street, Kansas City, MO 64106 | June 19, 2009 | 290173
Nevada: Clark (FEMA Docket No: B-1044) | Unincorporated areas of Clark County (09-09-0318P) | February 20, 2009; February 27, 2009; Las Vegas Review-Journal | The Honorable Rory Reid, Chair, Clark County Board of Commissioners, 500 South Grand Central Parkway, Las Vegas, NV 89106 | June 29, 2009 | 320003
New Mexico: Sandoval (FEMA Docket No: B-1042) | City of Rio Rancho (08-06-3060P) | February 6, 2009; February 13, 2009; The Albuquerque Journal | The Honorable Thomas E. Swisstack, Mayor, City of Rio Rancho, 3200 Civic Center Circle Northeast, Rio Rancho, NM 87144 | June 15, 2009 | 350146
Montana: Stillwater (FEMA Docket No: B-1055) | Unincorporated areas of Stillwater County (07-08-0854P) | July 17, 2008; July 24, 2008; Stillwater County News | The Honorable Dennis R. Hoyem, Chairman, Stillwater County Board of Commissioners, P.O. Box 970, Columbus, MT 59019 | November 24, 2008 | 300078
North Carolina: Guilford (FEMA Docket No: B-1046) | City of Greensboro (09-04-0087P) | March 6, 2009; March 13, 2009; Greensboro News & Record | The Honorable Yvonne J. Johnson, Mayor, City of Greensboro, P.O. Box 3136, Greensboro, NC 27402 | July 13, 2009 | 375351
Ohio: Lorain (FEMA Docket No: B-1048) | City of Avon Lake (08-05-5004P) | March 12, 2009; March 19, 2009; Morning Journal | The Honorable Karl J. Zuber, Mayor, City of Avon Lake, 150 Avon Belden Road, Avon Lake, OH 44012 | February 27, 2009 | 390602
South Carolina: Jasper (FEMA Docket No: B-1046) | Unincorporated areas of Jasper County (08-04-5295P) | March 4, 2009; March 11, 2009; Jasper County Sun | The Honorable Dr. George Hood, Chairman, Jasper County Council, P.O. Box 1149, Ridgeland, SC 29936 | July 9, 2009 | 450112
Tennessee: Nashville and Davidson (FEMA Docket No: B-1044) | Metropolitan Government of Nashville and Davidson County (08-04-5048P) | February 6, 2009; February 13, 2009; The Tennessean | The Honorable Karl Dean, Mayor, Metropolitan Government of Nashville and Davidson County, 100 Metro Courthouse, Nashville, TN 37201 | June 16, 2009 | 470040
Texas:
Bexar (FEMA Docket No: B-1046) | Unincorporated areas of Bexar County (09-06-0762P) | March 6, 2009; March 13, 2009; Daily Commercial Recorder | The Honorable Nelson W. Wolff, Bexar County Judge, 100 Dolorosa Street, Suite 120, San Antonio, TX 78205 | July 13, 2009 | 480035
Brazos (FEMA Docket No: B-1042) | City of Bryan (08-06-2045P) | February 12, 2009; February 19, 2009; Bryan-College Station Eagle | The Honorable Mark Conlee, Mayor, City of Bryan, 300 South Texas Avenue, Bryan, TX 77803 | June 19, 2009 | 480082
Collin (FEMA Docket No: B-1042) | City of Frisco (09-06-0212P) | February 6, 2009; February 13, 2009; Frisco Enterprise | The Honorable Maher Maso, Mayor, City of Frisco, 6101 Frisco Square Boulevard, Frisco, TX 75034 | June 15, 2009 | 480134
Denton (FEMA Docket No: B-1046) | Town of Copper Canyon (09-06-0214P) | March 2, 2009; March 9, 2009; Denton Record-Chronicle | The Honorable Sue Tejml, Mayor, Town of Copper Canyon, 400 Woodland Drive, Copper Canyon, TX 75077 | February 25, 2009 | 481508
Guadalupe (FEMA Docket No: B-1042) | City of Cibolo (08-06-2221P) | February 12, 2009; February 19, 2009; Seguin Gazette-Enterprise | The Honorable Johnny Sutton, Mayor, City of Cibolo, P.O. Box 826, Cibolo, TX 78108 | June 18, 2009 | 480267
Guadalupe (FEMA Docket No: B-1042) | Unincorporated areas of Guadalupe County (08-06-2221P) | February 12, 2009; February 19, 2009; Seguin Gazette-Enterprise | The Honorable Mike Wiggins, Guadalupe County Judge, 307 West Court Street, Seguin, TX 78155 | June 18, 2009 | 480266
Tarrant (FEMA Docket No: B-1052) | City of Fort Worth (09-06-0411P) | March 3, 2009; March 10, 2009; Fort Worth Star-Telegram | The Honorable Michael J. Moncrief, Mayor, City of Fort Worth, 1000 Throckmorton Street, Fort Worth, TX 76102 | February 23, 2009 | 480596
Tarrant (FEMA Docket No: B-1052) | City of Southlake (09-06-0528P) | March 3, 2009; March 10, 2009; Fort Worth Star-Telegram | The Honorable Andy Wambsganss, Mayor, City of Southlake, 1400 Main Street, Suite 270, Southlake, TX 76092 | February 20, 2009 | 480612
Webb (FEMA Docket No: B-1044) | City of Laredo (08-06-2454P) | February 6, 2009; February 13, 2009; Laredo Morning Times | The Honorable Raul G. Salinas, Mayor, City of Laredo, 1110 Houston Street, Laredo, TX 78040 | June 15, 2009 | 480651
Webb (FEMA Docket No: B-1044) | Unincorporated areas of Webb County (08-06-2740P) | February 6, 2009; February 13, 2009; Laredo Morning Times | The Honorable Danny Valdez, Webb County Judge, Webb County Courthouse, 1000 Houston Street, 3rd Floor, Laredo, TX 78040 | June 15, 2009 | 481059
Utah:
Salt Lake (FEMA Docket No: B-1044) | City of Riverton (08-08-0716P) | February 12, 2009; February 19, 2009; Salt Lake Tribune | The Honorable Bill Applegarth, Mayor, City of Riverton, 12765 South 1400 West, Riverton, UT 84065 | June 19, 2009 | 490104
Salt Lake (FEMA Docket No: B-1044) | City of South Jordan (08-08-0716P) | February 12, 2009; February 19, 2009; Salt Lake Tribune | The Honorable William Kent Money, Mayor, City of South Jordan, 1600 West Towne Center Drive, South Jordan, UT 84095 | June 19, 2009 | 490107
Virginia: Fauquier (FEMA Docket No: B-1046) | Unincorporated areas of Fauquier County (08-03-1792P) | March 5, 2009; March 12, 2009; Fauquier Times-Democrat | The Honorable R. Holder Trumbo, Jr., Chairman, Board of Supervisors, 10 Hotel Street, Suite 208, Warrenton, VA 20186 | July 10, 2009 | 510055
Wisconsin:
Dane (FEMA Docket No: B-1046) | City of Sun Prairie (08-05-1760P) | March 12, 2009; March 19, 2009; The Star | The Honorable Joe Chase, Mayor, City of Sun Prairie, 300 East Main Street, Sun Prairie, WI 53590 | February 27, 2009 | 550573
Waukesha (FEMA Docket No: B-1044) | Unincorporated areas of Waukesha County (08-05-4338P) | February 12, 2009; February 19, 2009; Waukesha Freeman | The Honorable James T. Dwyer, Chairman, Waukesha County Board of Supervisors, 515 West Moreland Boulevard, Waukesha, WI 53188 | June 19, 2009 | 550476

(Catalog of Federal Domestic Assistance No. 97.022, “Flood Insurance.”)

Dated: March 18, 2010.
Edward L. Connor,
Acting Federal Insurance and Mitigation Administrator, Mitigation, Department of Homeland Security, Federal Emergency Management Agency.

[FR Doc. 2010-8085 Filed 4-8-10; 8:45 am]

BILLING CODE 9110-12-P